FEDERAL COMMUNICATIONS COMMISSION

Sunshine Act Meeting; Open Commission Meeting; Thursday, April 18, 2013

April 11, 2013.

The Federal Communications Commission will hold an Open Meeting on the subjects listed below on Thursday, April 18, 2013. The meeting is scheduled to commence at 10:00 a.m. in Room TW-C305, at 445 12th Street SW., Washington, DC.

Item No. | Bureau | Subject
1 | INTERNATIONAL | TITLE: Review of Foreign Ownership Policies for Common Carrier and Aeronautical Radio Licensees under Section 310(b)(4) of the Communications Act of 1934, as Amended (IB Docket No. 11-133).
|  | SUMMARY: The Commission will consider a Second Report and Order to streamline the foreign ownership policies and procedures that apply to common carrier radio licensees and certain aeronautical radio licensees under section 310(b) of the Act, significantly reducing regulatory burdens while ensuring the Commission continues to receive the necessary information to protect the public interest.
2 | WIRELINE COMPETITION | TITLE: IP-Enabled Services (WC Docket No. 04-36); Telephone Number Requirements for IP-Enable Services Providers (WC Docket No. 07-243); Telephone Number Portability (CC Docket No. 95-116); Development a Unified Intercarrier Compensation Regime (CC Docket No. 01-92); Connect America Fund (WC Docket No. 10-90); Numbering Resource Optimization (CC Docket No. 99-200); Petition of Vonage Holdings Corp. for Limited Waiver of Section 52.15(g)(2)(i) of the Commission's Rules Regarding Access to Numbering Resources; Petition of TeleCommunication Systems, Inc. and HBF Group, Inc. for Waiver of Part 52 of the Commission's Rules; and Numbering Policies for Modern Communications.
|  | SUMMARY: The Commission will consider a Notice of Proposed Rulemaking and Notice of Inquiry on expanding direct access to telephone numbers to promote competition and innovation by IP-based providers, while protecting consumers and the reliability of phone calls. It will also consider an Order to allow a limited trial of direct access to numbers for VoIP providers.
3 | CONSUMER & GOVERNMENTAL AFFAIRS | TITLE: Presentation on the Status of Alerts to Prevent Bill Shock.
|  | SUMMARY: Pursuant to CTIA's revision to its Code of Conduct for Wireless Service, April 17, 2013 is the deadline by which the participating CTIA member wireless carriers must provide their subscribers with four specified types of alerts to allow consumers to avoid unexpected charges for wireless usage exceeding their plan limits, and for additional charges for international roaming. The Consumer & Governmental Affairs Bureau will provide a status report of the participating carriers' compliance with this requirement.

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted, but may be impossible to fill. Send an email to: fcc504@fcc.gov or call the Consumer & Governmental Affairs Bureau at 202-418-0530 (voice), 202-418-0432 (tty).

Additional information concerning this meeting may be obtained from Meribeth McCarrick, Office of Media Relations, (202) 418-0500; TTY 1-888-835-5322. Audio/Video coverage of the meeting will be broadcast live with open captioning over the Internet from the FCC Live Web page at www.fcc.gov/live.

For a fee this meeting can be viewed live over George Mason University's Capitol Connection. The Capitol Connection also will carry the meeting live via the Internet. To purchase these services call (703) 993-3100 or go to www.capitolconnection.gmu.edu.

Copies of materials adopted at this meeting can be purchased from the FCC's duplicating contractor, Best Copy and Printing, Inc. (202) 488-5300; Fax (202) 488-5563; TTY (202) 488-5562. These copies are available in paper format and alternative media, including large print/type; digital disk; and audio and video tape. Best Copy and Printing, Inc. may be reached by email at FCC@BCPIWEB.com.

Federal Communications Commission.
Sheryl D. Todd,
Deputy Secretary.

[FR Doc. 2013-09337 Filed 4-18-13; 11:15 am]

BILLING CODE 6712-01-P